DEPARTMENT OF VETERANS AFFAIRS

[OMB Control No. 2900-NEW]

Agency Information Collection Activity: Department of Veterans Affairs (VA) Network of Support Pilot Survey #2

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW”.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION:

Authority: Executive Order 13571—Streamlining Service Delivery and Improving Customer Service.

Title: Department of Veterans Affairs (VA) Network of Support Pilot Survey #2 (DEC2023).

OMB Control Number: 2900-NEW.

Type of Review: New collection.

Abstract: The Network of Support Pilot Survey #2 will be administered by VA to participants of the NoS Pilot to assess their satisfaction with the Program and their perception of its utility. The NoS Pilot is a legislatively mandated Pilot Program that invites transitioning service members (TSMs) to opt-in to the Program and then nominate up to 10 close friends and family members to received regular VA-provided information on Veteran benefits and resources. While the legislation focuses on TSMs, separated Veterans may also choose to participate in the Pilot. The intent is to increase the likelihood that new Veterans will see, understand, and take advantage of their earned benefits, thereby easing what can be a difficult transition out of the military. This information collection request (ICR) will be the second of two surveys in the two-year pilot program—the first being NoS Survey #1 (Reference number 202007-2900-004) which was administered in December of 2022 and was legislatively mandated by Public Law (Pub. L.) 116-214, section 101. The survey population includes all members of the pilot—maximum of 3,000 TSMs/Veterans and 30,000 of their nominated NoS members for a maximum total of 33,000. VA will use email with hyperlink to administer the electronic (i.e., Qualtrics) survey, limiting the burden on respondents. The survey will aid in VA's assessment of the effectiveness of the NoS Pilot by: (1) examining the self-reported satisfaction and perceived utility via a series of closed and open-ended questions; (2) analyzing the relationship between participation in the NoS Pilot and certain characteristics of military service (e.g., military occupation specialty [MOS], time in service [TIS], combat exposure) and certain demographics and personal characteristic known or believed to be associated with negative post-transition mental health and/or life outcomes; (3) analyzing the relationship between participation in the NoS Pilot and the use of VA Benefits and resources; (4) identifying areas of improvement for the NoS Program. This assessment will inform a report to the Congress mandated by Public Law 116-214, Section 101.

An agency may not conduct or sponsor, and a person is not required to respond to, a collection of information unless it displays a currently valid OMB control number. The Federal Register notice with a 60-day comment period soliciting comments on this collection of information was published on 03/29/2023.

Affected Public: Individuals.

Estimated Annual Burden: 75 hours.

Estimated Average Burden per Respondent: 15 minutes.

Frequency of Response: Annual.

Estimated Number of Respondents: 300.

By direction of the Secretary.
Maribel Aponte,
VA PRA Clearance Officer, Office of Enterprise and Integration/Data Governance Analytics, Department of Veterans Affairs.

[FR Doc. 2023-12133 Filed 6-6-23; 8:45 am]

BILLING CODE 8320-01-P